DEPARTMENT OF TRANSPORTATION

National Highway Traffic Safety Administration

[Docket No. NHTSA-2006-26424; Notice 2]

Maxon Industry, Inc. DBA Maxonlift Corp.; Ruling on Petition for Determination of Inconsequential Noncompliance

Maxon Industry Inc. DBA Maxonlift Corp. (Maxonlift) has determined that certain wheelchair lifts that it produced in 2005 and 2006 do not comply with paragraph S6.4.7.3 of 49 CFR 571.403, Federal Motor Vehicle Safety Standard (FMVSS) No. 403, Platform Lift Systems for Motor Vehicles. Pursuant to 49 U.S.C. 30118(d) and 30120(h), Maxonlift has petitioned for a determination that this noncompliance is inconsequential to motor vehicle safety and has filed an appropriate report pursuant to 49 CFR Part 573, “Defect and Noncompliance Responsibility and Reports.” Notice of receipt of the petition was published, with a 30 day public comment period, on December 13, 2006 in the Federal Register (71 FR 74996). The National Highway Traffic Safety Administration (NHTSA) received no comments. To view the petition and all supporting documents, go to: http://dms.dot.gov/search/searchFormSimple.cfm and enter Docket No. NHTSA-2006-26424.

Affected are a total of approximately 197 Model WL-7 and WL-7A wheelchair lifts produced by Maxon between April 1, 2005 and May 30, 2006. Specifically, paragraph S6.4.7.3 of FMVSS No. 403 requires:

The deployed wheelchair retention device(s) must be capable of sustaining 7,117 N (1,600 lb force) when tested in accordance with S7.13. No separation, fracture, or breakage of the wheelchair retention device may occur as a result of conducting the test in S7.13.

On the subject wheelchair lifts, the outer barrier wheelchair retention device does not comply. In NHTSA's compliance test on the Maxon lift, the outer barrier sustained 5,502 N (1,237 lb. force). Bending occurs on the locking bracket attachments and in the ramp extrusion, and potentially the outer barrier can unfold or break. Maxonlift has corrected the problem that caused these errors so that they will not be repeated in future production.

Maxonlift believes that the noncompliance is inconsequential to motor vehicle safety and that no corrective action is warranted. Maxonlift states:

For the units built with seat belts [all except for 63] we have an electronic feature that does not allow the unit to travel up and down without the seat belts fastened. The seat belt is an added restraint that takes force off of the outboard roll stop. If an electric wheelchair is accidentally moved forward it will hit the seat belt first keeping the person in place. We have had zero failure reports or warranty claims relating to an outboard roll stop failure.

With respect to the lifts that were provided with seat belts and an associated electronic feature that prevents lift platform up and down travel unless the seat belt is fastened, NHTSA agrees with Maxonlift that the noncompliance of the outer barrier is inconsequential to motor vehicle safety. NHTSA does not agree with Maxonlift with regard to the remainder of the lifts that do not have seat belts (secondary wheelchair retention devices). Lifts without seatbelts would rely solely on the inadequate noncompliant outer barrier to prevent a wheelchair from rolling off the lift platform. A failure of the outer barrier would therefore present a potential for severe injury to both the wheelchair occupant and attendants.

On the basis of the foregoing, NHTSA has determined that Maxonlift has adequately demonstrated that, under the specific facts and circumstances presented here, the noncompliance with FMVSS No. 403 in the lifts with seat belts is inconsequential to motor vehicle safety and no further action is warranted. Conversely, the noncompliance in the lifts without seat belts is not inconsequential.

Accordingly, Maxonlift's petition for an exemption from the duty to recall these noncompliant lifts equipped with seat belts is granted in part. However, the case of the noncompliant lifts without seat belts, the petition is denied and Maxonlift must notify according to 49 U.S.C. 30118 and remedy according to 49 U.S.C. 30120.

Authority: 49 U.S.C. 30118, 30120; delegations of authority at 49 CFR 1.50 and 501.8.

Issued on: May 16, 2007.
Daniel C. Smith,
Associate Administrator for Enforcement.

[FR Doc. E7-9858 Filed 5-21-07; 8:45 am]

BILLING CODE 4910-59-P